DEPARTMENT OF COMMERCE

National Oceanic and Atmospheric Administration

15 CFR Part 930

[Docket No. 020422093-2093]

RIN 0648-AP98

Procedural Changes to the Federal Consistency Process

AGENCY: Office of Coastal Resource Management (OCRM), National Ocean Service (NOS), National Oceanic Atmospheric Administration (NOAA), Department of Commerce (Commerce).

ACTION: Extension of public comment period.

SUMMARY: On July 2, 2002, the National Oceanic and Atmospheric Administration (NOAA) published an Advanced Notice of Proposed Rulemaking (ANPR) to evaluate whether limited and specific procedural changes or guidance to the existing Coastal Zone Management Act (CZMA) Federal consistency regulations are needed. The public comment period was to expire on September 3, 2002. This document extends the public comment period on the ANPR until October 3, 2002.

DATES: Comments on the ANPR will be considered if mailed on or before October 3, 2002.

ADDRESSES: All comments concerning these proposed regulations should be mailed to David W. Kaiser, Federal Consistency Coordinator, Office of Ocean and Coastal Resource Management (N/ORM3), 1305 East-West Highway, 11th Floor, Silver Spring, MD 20910.

FOR FURTHER INFORMATION CONTACT: David M. Kaiser, Federal Consistency Coordinator, Office of Ocean and Coastal Resource Management (N/ORM3), 1305 East-West Highway, 11th Floor, Silver Spring, MD 20910. Telephone: 301-713-3155, extension 144.

SUPPLEMENTARY INFORMATION: On July 2, 2002, (67 FR 44407), NOAA published an ANPR to evaluate whether limited and specific procedural changes or guidance to the existing CZMA Federal consistency regulations are needed to improve efficiencies in the Federal consistency procedures and Secretarial appeals process, particularly for energy development on the Outer Continental Shelf. The ANPR requested public comment on the need for limited and specific changes or guidance on what such changes or guidance should be. The public comment period was set to expire on September 3, 2002. During the comment period, NOAA received a request from several entities to extend the time for public comment on the ANPR. NOAA has decided to extend the original 60-day comment period to 90 days. The time for the public to submit comments on the ANPR now ends on October 3, 2002.

Dated: August 1, 2002.
Margaret A. Davidson,
Acting Assistant Administrator for Ocean Services and Coastal Zone Management.

[FR Doc. 02-19900 Filed 8-8-02; 8:45 am]

BILLING CODE 3510-08-M